DEPARTMENT OF VETERANS AFFAIRS

[OMB Control No. 2900-0262]

Agency Information Collection Activity: Designation of Certifying Official(s)

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before July 12, 2024.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0262” in any correspondence. During the comment period, comments may be viewed online through FDMS.

FOR FURTHER INFORMATION CONTACT: Maribel Aponte, Office of Enterprise and Integration, Data Governance Analytics (008), 810 Vermont Ave. NW, Washington, DC 20420, (202) 266-4688 or email maribel.aponte@va.gov. Please refer to “OMB Control No. 2900-0262” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: Title 38 U.S.C. 3034(a), 3241, 3323(a), 3492, 3680, and 3684(a); 10 U.S.C. 16136(b), and 16166(b); title 38 CFR 21.4203(a), 21.5200(d), 21.5292(e)(2), 21.5810(a), 21.7140(a), 21.7652, and 21.7656.

Title: Designation of Certifying Official(s), VA Form 22-8794.

OMB Control Number: 2900-0262.

Type of Review: Revision of a currently approved collection.

Abstract: The law requires educational institutions and job training establishments to designate an official that will be responsible for certifying approved training for Veterans and other eligible persons. Each educational institution must have a VA certifying official on staff. The certifying official must submit to VA each student's enrollment information and any changes to such enrollment information. The “Designation of Certifying Official(s)” (VA Form 22-8794) provides VA with the names and signatures of those persons authorized to certify and submit to VA any new hours or changes in the enrollment of their VA students. The VA uses VA Form 22-8794 to maintain a record of the VA Certifying Official(s) responsible for certifying approved training for Veterans and other eligible beneficiaries.

Affected Public: Individuals and Households.

Estimated Annual Burden: 1,029 hours.

Estimated Average Burden Time per Respondent: 10 minutes.

Frequency of Response: Once on occasion.

Estimated Number of Respondents: 6,177.

By direction of the Secretary:
Maribel Aponte,
VA PRA Clearance Officer, Office of Enterprise and Integration/Data Governance Analytics, Department of Veterans Affairs.

[FR Doc. 2024-10283 Filed 5-10-24; 8:45 am]

BILLING CODE 8320-01-P